DEPARTMENT OF ENERGY

Western Area Power Administration

Revised Open Access Transmission Service Tariff

AGENCY: Western Area Power Administration, DOE.

ACTION: Notice of Informal Meeting and Comment Opportunity.

SUMMARY: The Western Area Power Administration (Western) is revising its Open Access Transmission Service Tariff (Tariff). Western's existing Tariff was approved by the Federal Energy Regulatory Commission (Commission) on April 12, 2002. Western intends to update certain Tariff provisions, adopt the principal features of the Commission's Standard Large Generator Interconnection Procedures (LGIP) and Standard Large Generator Interconnection Agreement (LGIA) consistent with applicable law, and to make additional changes to further Western's mission and transmission marketing efforts. Publication of this Federal Register notice announces a public meeting and an opportunity for informal comments on Western's revised Tariff prior to filing with the Commission.

DATES: Western will accept comments on the revised Tariff until November 22, 2004. Western will present a detailed explanation of the revised Tariff at an informal public meeting to be held on November 8, 2004, 1 p.m. MST, Denver, CO. Western will accept oral and written comments at this meeting, and will also accept written comments at any time during the informal comment period.

ADDRESSES: The public meeting location is the Radisson Stapleton Plaza Hotel, 3333 Quebec Street, Denver, CO.

Send written comments to Corporate Communications, Western Area Power Administration, P.O. Box 281213, Lakewood, CO 80228-8213, e-mail tariffcomments@wapa.gov, fax number (720) 962-7059.

FOR FURTHER INFORMATION CONTACT: For substantive questions, contact Darrick C. Moe, Tariff Project Manager, Upper Great Plains Region, Western Area Power Administration, Watertown, SD at (605) 882-7501. For information on the informal meeting, copies of documents posted on Western's Web site, or for questions on how to submit comments, contact Carolyn Hinkley, Corporate Communications, Western Area Power Administration, Lakewood, CO at (720) 962-7053. Both of these individuals can also be contacted by e-mail at tariffcomments@wapa.gov.

SUPPLEMENTARY INFORMATION: Western is a Federal power marketing administration, charged with the responsibility of selling electricity generated by power plants operated by the Bureau of Reclamation, the Corps of Engineers, and the International Boundary and Water Commission. Created in 1977 under Section 302 of the Department of Energy Organization Act, Western markets and transmits Federal power resources from various multi-purpose hydroelectric projects to customers in 15 Central and Western States. Western has four Customer Service Regional Offices and the Colorado River Storage Project Management Center, each referred to in the revised Tariff as a Regional Office.

Western is not a public utility under Sections 205 and 206 of the Federal Power Act and is not specifically subject to the requirements of the LGIP and LGIA. Western is a transmitting utility subject to Section 211 of the Federal Power Act as amended by the Energy Policy Act of 1992.

On July 24, 2003, the Commission issued Order No. 2003 requiring all public utilities that own, control, or operate facilities used for transmitting electric energy in interstate commerce to have on file standard procedures and a standard agreement for interconnecting generating facilities capable of producing more than 20 megawatts of power to their transmission facilities. Order No. 2003 requires all public utilities to modify their open access transmission tariffs to incorporate the LGIP and LGIA and requires non-public utilities with a “safe harbor” Tariff to adopt the pro forma LGIP and LGIA to retain “safe harbor” status. Western seeks to retain its “safe harbor” status through compliance with the spirit and intent of Order No. 2003, to the extent consistent with applicable law.

The revised Tariff, a summary of changes Western intends to make to its existing Tariff, and information about the tariff process is posted on Western's Web site at http://www.wapa.gov/oatt.htm. Western will post comments received at the public meeting or by letter, fax or e-mail to this Web site after the close of the comment period. Responses to comments will also be posted after they are developed. Western must receive written comments by the end of the informal comment period to ensure they are considered in Western's filing with the Commission.

Dated: October 6, 2004.
Michael S. Hacskaylo,
Administrator.

[FR Doc. 04-23679 Filed 10-21-04; 8:45 am]

BILLING CODE 6450-01-P